DEPARTMENT OF TRANSPORTATION

Federal Aviation Administration

Proposed Change to Advisory Circular 29-2C, Certification of Transport Category Rotorcraft

AGENCY: Federal Aviation Administration (FAA), DOT.

ACTION: Notice of availability of proposed advisory circular (AC) material and request for comments.

SUMMARY: This notice announces the availability of and requests comments on proposed new material to be added to AC 29-2C, Certification of Transport Category Rotorcraft. This proposed material adds a new paragraph MG 17, Advanced Flight Controls. This notice is necessary to give all interested persons an opportunity to comment on the proposed AC material.

DATES: We must receive your comments by Augusut 9, 2004.

ADDRESSES: Send all comments on the proposed AC paragraph to the Federal Aviation Administration, Attention: Robert R. McCallister, Safety Management Group, ASW-112, 2601 Meacham Boulevard, Fort Worth, TX 76193-0112; e-mail: Robert.R.McCallister@faa.gov or fax: (817) 222-5961. You may inspect comments at the above address between 7:30 a.m. and 4 p.m. weekdays, except Federal holidays.

FOR FURTHER INFORMATION CONTACT: Robert R. McCallister, telephone (817) 222-5121; fax (817) 222-5961.

SUPPLEMENTARY INFORMATION:

Comments Invited

We invite all interested persons to comment on the proposed AC by submitting such written data, views, or arguments as they may desire. If you have comments, you should identify AC 29-2C, AC paragraph MG 17, and submit your comments, in duplicate, to the address specified above. We will consider all communications received by the closing date before issuing the final AC. You can get a copy of the proposed material by contacting the person named under the caption FOR FURTHER INFORMATION CONTACT or by downloading the proposed AC from the following Internet Web site: http://www.airweb.faa.gov/rgl.

Background

A harmonized working group developed this material for Advanced Flight Controls. When this AC paragraph is finalized, it will be posted on the Internet Web site as accepted, and it will be published in the next update to AC 29-2C. We anticipate that draft material for Advanced Flight Controls for AC 27-1B will be developed soon.

Issued in Fort Worth, Texas, on June 30, 2004.
Mark Schilling,
Acting Manager, Rotorcraft Directorate, Aircraft Certification Service.

[FR Doc. 04-15645 Filed 7-8-04; 8:45 am]

BILLING CODE 4910-13-P